OFFICE OF PERSONNEL MANAGEMENT

Excepted Service

AGENCY: U.S. Office of Personnel Management (OPM).

ACTION: Notice.

SUMMARY: This notice identifies Schedule A, B, and C appointing authorities applicable to a single agency that were established or revoked from July 1, 2015, to July 31, 2015.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during July 2015.

Schedule B

No Schedule B Authorities to report during July 2015.

Schedule C

The following Schedule C appointing authorities were approved during July 2015.

Agency name | Organization name | Position title | Authorization No. | Effective date
DEPARTMENT OF AGRICULTURE | Farm Service Agency | State Executive Director—Virginia | DA150160 | 7/15/2015
| Natural Resources Conservation Service | Deputy Chief of Staff | DA150161 | 7/28/2015
| Office of the Under Secretary for Food Safety | Chief of Staff | DA150164 | 7/28/2015
DEPARTMENT OF COMMERCE | Office of Executive Secretariat | Associate Director (2) | DC150120 | 7/6/2015
|  |  | DC150121 | 7/6/2015
| Office of the Under Secretary | Special Assistant | DC150130 | 7/20/2015
| Office of Public Affairs | Deputy Press Secretary | DC150132 | 7/20/2015
| Assistant Secretary for Industry and Analysis | Special Assistant | DC150131 | 7/24/2015
| Office of Deputy Assistant Secretary for Legislative and Intergovernmental Affairs | Associate Director for Oversight | DC150141 | 7/30/2015
| Economics and Statistics Administration | Special Assistant | DC150136 | 7/31/2015
| Office of Legislative and Intergovernmental Affairs | Special Assistant | DC150138 | 7/31/2015
| Office of Director General of the United States and Foreign Commercial Service and Assistant Secretary for Global Markets | Advisor | DC150140 | 7/31/2015
COMMODITY FUTURES TRADING COMMISSION | Office of the Chairperson | Public Affairs Specialist (Speechwriter) | CT150002 | 7/16/2015
DEPARTMENT OF DEFENSE | Office of the Secretary | Special Assistant (2) | DD150155 | 7/1/2015
|  |  | DD150150 | 7/2/2015
|  | Advance Officer | DD150167 | 7/31/2015
| Office of Assistant Secretary of Defense (Public Affairs) | Speechwriter | DD150153 | 7/8/2015
| Washington Headquarters Services | Defense Fellow | DD150151 | 7/13/2015
| Office of the Under Secretary of Defense (Acquisition, Technology, and Logistics) | Special Assistant for Energy, Installations and Environment | DD150162 | 7/21/2015
| Office of the Assistant Secretary of Defense (Legislative Affairs) | Special Assistant (Chief, Acquisition, Technology and Logistics) | DD150163 | 7/21/2015
| Director, Operational Test and Evaluation | Special Assistant | DD150166 | 7/21/2015
| Office of the Under Secretary of Defense (Personnel and Readiness) | Special Assistant for Personnel and Readiness | DD150154 | 7/27/2015
DEPARTMENT OF THE ARMY | Office Assistant Secretary Army (Installations and Environment) | Special Assistant (Installations, Energy and Environment) | DW150050 | 7/1/2015
DEPARTMENT OF EDUCATION | Office of the General Counsel | Associate General Counsel | DB150107 | 7/1/2015
| Office of the Under Secretary | Special Assistant for Strategic Operations | DB150108 | 7/8/2015
| Office of Elementary and Secondary Education | Deputy Assistant Secretary for Policy and Strategic Initiatives | DB150109 | 7/8/2015
| Office of the Secretary | Deputy Director of Scheduling and Advance | DB150112 | 7/27/2015
DEPARTMENT OF ENERGY | Office of Management | Special Assistant (2) | DE150094 | 7/17/2015
|  |  | DE150114 | 7/31/2015
| Assistant Secretary for Congressional and Intergovernmental Affairs | Director of Intergovernmental Affairs | DE150098 | 7/17/2015
|  | Advisor for Intergovernmental and Tribal Affairs | DE150109 | 7/30/2015
|  | Special Assistant | DE150121 | 7/30/2015
| Assistant Secretary for Energy Efficiency and Renewable Energy | Special Advisor | DE150107 | 7/17/2015
| Office of the Secretary | Special Assistant | DE150097 | 7/27/2015
| Office of the Secretary of Energy Advisory Board | Director and Senior Advisor, Office of Secretarial Boards and Councils | DE150113 | 7/31/2015
ENVIRONMENTAL PROTECTION AGENCY | Office of the Associate Administrator for Congressional and Intergovernmental Relations | Special Advisor for Congressional and Intergovernmental Relations | EP150047 | 7/16/2015
| Office of Public Engagement and Environmental Education | Special Assistant for Public Engagement | EP150045 | 7/6/2015
EXPORT-IMPORT BANK | Office of Congressional Affairs | Deputy Director of Intergovernmental Affairs | EB150004 | 7/27/2015
GENERAL SERVICES ADMINISTRATION | Pacific Rim Region Office of Congressional and Intergovernmental Affairs | Special Assistant Deputy Associate Administrator for Intergovernmental Affairs | GS150045 GS150046 | 7/15/2015 7/16/2015
DEPARTMENT OF HEALTH AND HUMAN SERVICES | Office of the Assistant Secretary for Public Affairs | Senior Advisor Confidential Assistant | DH150163 DH150173 | 7/8/2015 7/23/2015
| Office of the Assistant Secretary for Planning and Evaluation | Senior Advisor | DH150165 | 7/8/2015
| Office of the Secretary | Confidential Assistant | DH150170 | 7/10/2015
| Office of the Assistant Secretary for Health | Chief of Staff | DH150174 | 7/27/2015
DEPARTMENT OF HOMELAND SECURITY | Office of the General Counsel | Special Counsel Special Assistant | DM150187 DM150188 | 7/2/2015 7/16/2015
|  | Confidential Assistant | DM150212 | 7/21/2015
| Office of the Assistant Secretary for Public Affairs | Assistant Press Secretary Deputy Press Secretary | DM150189 DM150190 | 7/8/2015 7/8/2015
|  | Confidential Assistant for Public Affairs | DM150199 | 7/15/2015
| Office of the Under Secretary for Science and Technology | Special Assistant for Science and Technology | DM150193 | 7/10/2015
| Office of the Secretary | Senior Counselor | DM150200 | 7/16/2015
|  | Counselor | DM150224 | 7/31/2015
|  | Special Assistant | DM150226 | 7/31/2015
| Office of the Chief of Staff | Confidential Assistant | DM150210 | 7/21/2015
| U.S. Citizenship and Immigration Services | Counselor | DM150214 | 7/21/2015
| Office of the Under Secretary for National Protection and Programs Directorate | Assistant Director of Legislative Affairs | DM150219 | 7/31/2015
DEPARTMENT OF HOUSING AND URBAN DEVELOPMENT | Office of Fair Housing and Equal Opportunity | Special Policy Advisor | DU150066 | 7/10/2015
| Office of the Deputy Secretary | Special Assistant | DU150067 | 7/24/2015
DEPARTMENT OF THE INTERIOR | Secretary's Immediate Office Director of Digital Strategy | Senior Advisor for Alaskan Affairs | DI150098 | 7/1/2015 7/27/2015
Writer | DI150104 | 7/30/2015
DEPARTMENT OF JUSTICE | Office on Violence Against Women | Special Assistant | DJ150071 | 7/1/2015
| Executive Office for United States Attorneys | Senior Counsel | DJ150097 | 7/1/2015
DEPARTMENT OF LABOR | Office of the Secretary | Special Assistant | DL150073 | 7/13/2015
| Office of the Deputy Secretary | Chief of Staff | DL150074 | 7/13/2015
NATIONAL TRANSPORTATION SAFETY BOARD | Office of Board Members | Confidential Assistant | TB150006 | 7/27/2015
OFFICE OF MANAGEMENT AND BUDGET | Office of E-Government and Information Technology | Program Analyst | BO150034 | 7/30/2015
OFFICE OF THE UNITED STATES TRADE REPRESENTATIVE | Office of Intergovernmental Affairs and Public Liaison | Director for Intergovernmental Affairs | TN150012 | 7/10/2015
| Office of the United States Trade Representative | Special Assistant | TN150013 | 7/10/2015
| Office of the Ambassador | Director of Scheduling and Advance | TN150014 | 7/23/2015
SMALL BUSINESS ADMINISTRATION | Office of the Administrator | Idea Lab Director | SB150043 | 7/9/2015
|  | Senior Advisor | SB150042 | 7/10/2015
|  | Special Advisor | SB150045 | 7/30/2015
| Office of Communications and Public Liaison | Deputy Press Secretary | SB150046 | 7/30/2015
DEPARTMENT OF STATE | Office of the United States Aids Coordinator | Senior Advisor | DS150087 | 7/1/2015
| Bureau of Public Affairs | Staff Assistant | DS150104 | 7/2/2015
| Office of the Under Secretary for Management | White House Liaison | DS150103 | 7/8/2015
| Office To Monitor and Combat Trafficking In Persons | Public Affairs Specialist | DS150067 | 7/10/2015
| Bureau of Legislative Affairs | Legislative Management Officer | DS150097 | 7/10/2015
| Office of the Deputy Secretary | Special Assistant | DS150105 | 7/14/2015
| Office of the Secretary | Staff Assistant | DS150106 | 7/14/2015
| Bureau of East Asian and Pacific Affairs | Special Assistant | DS150094 | 7/15/2015
| Bureau of International Narcotics and Law Enforcement Affairs | Senior Advisor | DS150092 | 7/17/2015
| Bureau of Public Affairs | Supervisory Public Affairs Specialist | DS150107 | 7/21/2015
| Foreign Policy Planning Staff | Writer-Editor (Speechwriter) | DS150110 | 7/27/2015
| Office of the Chief of Protocol | Protocol Officer (Visits) | DS150111 | 7/29/2015
| Bureau of European and Eurasian Affairs | Deputy Assistant Secretary | DS150086 | 7/30/2015
DEPARTMENT OF THE TREASURY | Office of the Assistant Secretary (Public Affairs) | Press Assistant | DY150106 | 7/8/2015
|  | Media Affairs Specialist | DY150107 | 7/8/2015
|  | Spokesperson (3) | DY150109 | 7/8/2015
|  |  | DY150115 | 7/9/2015
|  |  | DY150114 | 7/14/2015
| Office of the Secretary of the Treasury | Senior Advisor | DY150112 | 7/8/2015
| Office of the Assistant Secretary (Legislative Affairs) | Senior Advisor for Housing | DY150116 | 7/14/2015
|  | Special Advisor (2) | DY150120 | 7/17/2015
|  |  | DY150121 | 7/17/2015
| Assistant Secretary for International Finance | Special Assistant | DY150119 | 7/17/2015
DEPARTMENT OF VETERANS AFFAIRS | Office of the Assistant Secretary for Public and Intergovernmental Affairs | Press Secretary | DV150046 | 7/1/2015

The following Schedule C appointing authorities were revoked during July 2015

Agency name | Organization name | Position title | Authorization No. | Vacate date
DEPARTMENT OF AGRICULTURE | Office of the Under Secretary for Food, Nutrition and Consumer Services | Chief Communications Officer | DA140015 | 7/19/2015
DEPARTMENT OF COMMERCE | Office of Policy and Strategic Planning | Deputy Director, Office of Policy and Strategic Planning | DC130030 | 7/10/2015
| Office of Executive Secretariat | Confidential Assistant/Editor | DC140052 | 7/11/2015
|  | Special Assistant | DC130012 | 7/11/2015
| Office of Public Affairs | Deputy Director of Public Affairs | DC140023 | 7/15/2015
OFFICE OF THE SECRETARY OF DEFENSE | Office of the Secretary | Special Assistant | DD110053 | 7/25/2015
DEPARTMENT OF THE ARMY | Office of Assistant Secretary of the Army (Acquisition, Logistics and Technology) | Special Assistant to the Secretary of the Army | DW130054 | 7/4/2015
DEPARTMENT OF EDUCATION | Office of Communications and Outreach | Special Assistant | DB090062 | 7/1/2015
|  | Deputy Assistant Secretary for Communication Development | DB130008 | 7/25/2015
| Office of Planning, Evaluation and Policy Development | Special Assistant | DB150092 | 7/7/2015
| Office of Legislation and Congressional Affairs | Deputy Assistant Secretary | DB090091 | 7/11/2015
| Office of the Secretary | Special Assistant | DB140015 | 7/11/2015
| Office of the Under Secretary | Confidential Assistant | DB140064 | 7/11/2015
EXPORT-IMPORT BANK | Office of Communications | Speechwriter | EB140003 | 7/1/2015
| Office of Chair | Director of Scheduling | EB120003 | 7/26/2015
FEDERAL TRADE COMMISSION | Office of the Chairman | Director, Office of Public Affairs | FT140005 | 7/11/2015
DEPARTMENT OF HEALTH AND HUMAN SERVICES | Office of the Assistant Secretary for Public Affairs | Communications Director for Health Care | DH140135 | 7/11/2015
|  | National Press Secretary for Health Care | DH140137 | 7/11/2015
|  | Confidential Assistant | DH150140 | 7/31/2015
| Office of the Secretary | Confidential Assistant to the Secretary | DH140113 | 7/29/2015
DEPARTMENT OF HOMELAND SECURITY | Office of the Assistant Secretary for Public Affairs | Confidential Assistant to the Assistant Secretary for Public Affairs | DM150010 | 7/1/2015
|  | Assistant Press Secretary | DM150019 | 7/11/2015
|  | Press Assistant | DM140233 | 7/11/2015
| Office of the Under Secretary for Science and Technology | Special Assistant to the Under Secretary and Deputy Under Secretary for Science and Technology | DM140109 | 7/11/2015
DEPARTMENT OF HOUSING AND URBAN DEVELOPMENT | Office of Community Planning and Development | Senior Advisor | DU140009 | 7/6/2015
DEPARTMENT OF THE INTERIOR | Secretary's Immediate Office | Special Assistant | DI140022 | 7/6/2015
| Office of Assistant Secretary, Indian Affairs | Senior Advisor to the Assistant Secretary, Indian Affairs | DI120044 | 7/1/2015
DEPARTMENT OF JUSTICE | Office of Legal Policy | Researcher | DJ120089 | 7/11/2015
| Office of the Deputy Attorney General | Senior Counsel | DJ090125 | 7/11/2015
| Office on Violence Against Women | Program Specialist | DJ140020 | 7/11/2015
SMALL BUSINESS ADMINISTRATION | Office of Capital Access | Senior Advisor to the Associate Administrator for Capital Access | SB150005 | 7/11/2015
| Office of Communications and Public Liaison | Special Advisor for Public Engagement | SB140026 | 7/15/2015
|  | Associate Administrator for Communications and Public Liaison | SB150033 | 7/28/2015
DEPARTMENT OF TRANSPORTATION | Office of Public Affairs | Chief Speechwriter | DT150019 | 7/8/2015
|  | Press Secretary and Senior Media Advisor | DT150025 | 7/18/2015
DEPARTMENT OF THE TREASURY | Office of the Secretary of the Treasury | Deputy Executive Secretary | DY140109 | 7/8/2015
| Office of the Assistant Secretary (Legislative Affairs) | Special Assistant | DY140108 | 7/17/2015

Authority: 5 U.S.C. 3301 and 3302; E.O. 10577, 3 CFR, 1954-1958 Comp., p. 218.

U.S. Office of Personnel Management.
Beth F. Cobert,
Acting Director.

[FR Doc. 2015-25896 Filed 10-9-15; 8:45 am]

BILLING CODE 6325-39-P